DEPARTMENT OF STATE

[Public Notice 5551]

Bureau of Educational and Cultural Affairs (ECA) Request for Grant Proposals: The Future Leaders Exchange Program: Host Family and School Placement

Announcement Type: New Grant.

Funding Opportunity Number: ECA/PE/C/PY-07-06.

Catalog of Federal Domestic Assistance Number: 00.000.

Key Dates: Application Deadline: December 4, 2006.

Executive Summary

SUMMARY: The Youth Programs Division of the Bureau of Educational and Cultural Affairs announces an open competition for the placement component of the Future Leaders Exchange (FLEX) program. Public and private non-profit organizations meeting the provisions described in Internal Revenue Code section 26 U.S.C. 501(c)(3) may submit proposals to recruit and select host families and schools for high school students between the ages of 15 and 17 from countries of the former Soviet Union, thereafter referred to as Eurasia. This solicitation and the activities to which it refers, applies only to FLEX students from the following Eurasian countries: Armenia, Azerbaijan, Belarus, Georgia, Kazakhstan, Kyrgyzstan, Moldova, Russia, Tajikistan, Turkmenistan, Ukraine, and Uzbekistan.

In addition to identifying schools and screening, selecting, and orienting families, organizations will be responsible for: (1) Providing English language enhancement activities for a small percentage of students who are specially identified; (2) orienting all students at the local level; (3) providing support services for students; (4) arranging enhancement activities and skill-building opportunities; (5) assessing student performance and progress; (6) providing mid-year programming and re-entry training; and (7) evaluating project success. Preference will be given to those organizations that offer participants opportunities to develop leadership skills and raise their awareness of tolerance and social justice through community activities and networks. The award of grants and the number of students who will participate is subject to the availability of funding in fiscal year 2007.

I. Funding Opportunity Description

Authority: Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Overview: The Future Leaders Exchange Program seeks to provide 1,200 high school students with an opportunity to live in the United States for the purpose of promoting democratic values and institutions throughout Eurasia. Participants will reside with American host families and attend high school during the 2007-08 academic year. In special situations, students may come to the U.S. for a short-term, rather than yearlong, program. Further details about such modifications are provided in the attached Project Objectives, Goals and Implementation (POGI) document.

During the year, FLEX participants will be engaged in a variety of activities, such as community and school-based programs, skill-building workshops, and cultural events. Academic year 2007/2008 will be the fifteenth year of the FLEX program, with more than 15,000 students who have been awarded scholarships.

Goals: The goals of the program are (1) to promote mutual understanding and foster a relationship between the people of Eurasia and the U.S.; (2) to assist the successor generation of Eurasian countries in developing the qualities it will need to lead in their aspirations for transformation in the 21st century; and (3) to promote democratic values and civic responsibility.

Considering the specific focus of the FLEX program, the following outcomes will indicate a successful project:

1. Participants will acquire an understanding of important elements of a civil society. This includes concepts such as volunteerism, the idea that American citizens can and do act at the grassroots level to deal with societal problems, and an awareness of and respect for the rule of law.

2. Participants will acquire an understanding of a free market economy and private enterprise, including an awareness of privatization and an appreciation of the role of the entrepreneur in economic growth.

3. Participants will develop an appreciation for American culture, an understanding of the diversity of American society and increased tolerance and respect for others with differing views and beliefs.

4. Participants will interact with Americans and generate enduring ties.

5. Participants will teach Americans about the cultures of their home countries.

6. Participants will gain leadership capacity that will enable them, as FLEX alumni, to initiate activities in their home countries that focus on development and community service.

Objectives: The immediate objectives of the FLEX program are:

• To place approximately 1,200 pre-selected high school students from Eurasian countries in qualified, well-motivated host families;

• To place students in schools that have been accredited by the respective State departments of education;

• To expose program participants to American culture and democracy that will enable them to attain a broad view of U.S. society and culture;

• To provide appropriate venues for program participants to share their culture, lifestyle and traditions with U.S. citizens;

• To provide participants with leadership training and opportunities that foster skills they can take back with them and use in their home countries; and

• To provide activities that will increase and enhance students' understanding of the importance of tolerance and respect for the views and beliefs of others in a civil society.

Other Components: One organization has been awarded a grant to perform the following functions: Recruitment and selection of Eurasian students; assistance in documentation and preparation of DS-2019 visa forms; preparation of cross-cultural materials; pre-departure orientation; international travel from home to host community and return; facilitation of ongoing communication between the natural parents and placement organization, as needed; maintenance of a student database and provision of data to the U.S. Department of State; and ongoing follow-up with alumni after their return to Eurasia.

Another organization is responsible for supporting students with disabilities. This involves a post-arrival orientation and reentry training as well as ongoing support throughout the year in order to help them cope with challenges specific to their circumstances. Placement organizations will be in direct communication with this organization, especially since some students with disabilities may need supplementary independence skills training early on in the program.

Guidelines: Applicants are requested to submit a narrative outlining a comprehensive strategy for the administration and implementation of the placement component of the FLEX program including the identification of host families and schools; organization of post-arrival orientation programming; placement of students, as needed, in pre-academic intensive English program; enrichment programming; monitoring and supporting participants; and evaluation. Specific responsibilities are as follows:

(1) Recruitment, screening, selection, and Eurasia/FLEX-specific orientation of host families;

(2) enrollment in an accredited school;

(3) post-arrival orientation for participants;

(4) placement of a small number of students with disabilities;

(5) pre-program specialized English language tutoring for pre-selected students who require focused preparation for their academic year;

(6) specialized training of local staff and volunteers to work with FLEX students from Eurasia;

(7) preparation and dissemination of materials to students pertaining to the respective placement organization;

(8) dispersal of program-specific information, such as alumni activity reports and Host Family and School Administrator handbooks, to respective persons involved with the program (e.g., host families, school administrators, local coordinators);

(9) program-related enhancement and leadership training activities;

(10) troubleshooting;

(11) communication with the organizations conducting other program components, when appropriate;

(12) evaluation of the students' performance;

(13) quarterly evaluation of the organization's success in achieving program goals;

(14) mid-year orientations to assess progress; and

(15) Eurasia-specific re-entry training to prepare students for readjustment to their home environments.

Applicants must request a grant for the placement of at least 30 students. There is no ceiling on the number of students who may be placed by one organization. Placements may be in any region of the U.S. Strong preference will be given to organizations that choose to place participants in clusters of at least three students. Please refer to the Solicitation Package, available on request from the address listed below, for details on essential program elements, permissible costs, and criteria used to select and place students.

We anticipate grants beginning no later than April 2007, subject to the availability of funds.

Most participants arrive in their host communities during the month of August and remain for 10 or 11 months until their departure during the period mid-May to late June 2008. Students with disabilities and students requiring supplementary English language instruction may arrive at the end of July.

Administration of the program must be in compliance with reporting and withholding regulations for Federal, State, and local taxes as applicable. Recipient organizations should demonstrate tax regulation adherence in the proposal narrative and budget.

Applicants should submit the health and accident insurance plans they intend to use for students on this program. If use of a private plan is proposed, the State Department will compare that plan with the Bureau plan and make a determination of which will be applicable.

II. Award Information

Type of Award: New Grant Agreement.

Fiscal Year Funds: FY 2007.

Approximate Total Funding: $6,625,000.

Approximate Number of Awards: 10-15 grants.

Average Grant Award: Dependent on the number of proposed students, total amount not to exceed $5,500 per student; a minimum award is approximately $165,000.

Anticipated Award Date: April 2007, pending availability of funds.

Anticipated Project Completion Date: August 2008.

Additional Information: Pending successful implementation of this program and the availability of funds in subsequent fiscal years, it is ECA's intent to renew grants awarded under this competition for at least two additional fiscal years, before openly competing it again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs. When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III. 3. Other Eligibility Requirements: Bureau grant guidelines require that organizations with less than four years experience in conducting international exchanges be limited to $60,000 in Bureau funding. ECA will award grants in amounts exceeding $60,000,which will cover costs to support and monitor a minimum of 30 students. Consequently, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1. Contact Information to Request an Application Package: Please contact The Office of Youth Programs, ECA/PE/C/PY, Room 568, U.S. Department of State, SA-44, 301 4th Street, SW., Washington, DC 20547, telephone (202) 203-7527, and fax (202) 203-7529, e-mail Judy Nowlin at NowlinJR@state.gov to request a Solicitation Package. Please refer to the Funding Opportunity Number ECA/PE/C/PY-07-06 located at the top of this announcement when making your request.

Alternatively, an electronic application package may be obtained from http://www.grants.gov. Please see section IV.3f for further information.

The Solicitation Package contains the Proposal Submission Instruction (PSI) document, which consists of required application forms and standard guidelines for proposal preparation.

It also contains the Project Objectives, Goals and Implementation (POGI) document, which provides specific information, award criteria and budget instructions tailored to this competition.

Please specify Bureau Program Officer Anna Mussman (MussmanAP@state.gov) and refer to the Funding Opportunity Number (ECA/PE/C/PY-07-06) at the top of this announcement on all other inquiries and correspondence.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The original and 8 copies of the application should be sent per the instructions under IV.3e. “Application Deadline and Methods of Submissions” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget. Please Refer to the Solicitation Package. It contains the mandatory Proposal Submission Instructions (PSI) document and the Project Objectives, Goals and Implementation (POGI) for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to all regulations governing the J Visa. The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving grants under this RFGP will be third parties “cooperating with or assisting the sponsor in the conduct of the sponsor's program.” The actions of grantee program organizations shall be “imputed to the sponsor in evaluating the sponsor's compliance with” 22 CFR 62. Therefore, the Bureau expects that any organization receiving a grant under this competition will render all assistance necessary to enable the Bureau to fully comply with 22 CFR 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR 62. If your organization has experience as a designated Exchange Visitor Program Sponsor, the applicant should discuss their record of compliance with 22 CFR 62 et. seq., including the oversight of their Responsible Officers and Alternate Responsible Officers, screening and selection of program participants, provision of pre-arrival information and orientation to participants, monitoring of participants, proper maintenance and security of forms, recordkeeping, reporting and other requirements.

The Office of Citizen Exchanges of ECA will be responsible for issuing DS-2019 forms to participants in this program. A copy of the complete regulations governing the administration of Exchange Visitor (J) programs is available at http://exchanges.state.gov or from: United States Department of State, Office of Exchange Coordination and Designation, ECA/EC/ECD—SA-44, Room 734, 301 4th Street, SW., Washington, DC 20547, telephone: (202) 203-5029, fax: (202) 453-8640.

IV.3.d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content.

Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program monitoring and evaluation. Monitoring: Proposals must include a plan to monitor and evaluate the project's success, both as the activities unfold and at the end of the program. The Bureau recommends that your proposal include a draft survey questionnaire or other technique, plus a description of a methodology that will be used to link outcomes to original project objectives. The Bureau expects that the grantee will track participants and be able to respond to key monitoring questions throughout the year, particularly on effects of the program on program participants, their host families and communities.

Successful monitoring depends heavily on setting clear goals and outcomes at the outset of a program. Your monitoring plan should include a description of your project's objectives and how and when you intend to measure these outcomes. You should also show how your project objectives link to the goals of the program described in this RFGP.

Overall, the quality of your monitoring plan will be judged on how well it specifies successes and challenges. Grantees will be required to provide reports analyzing their monitoring findings to the Bureau in their regular program reports. All data collected, including survey responses and contact information, must be maintained for a minimum of three years and provided to the Bureau upon request.

Evaluation: The Bureau's Office of Policy and Evaluation will conduct evaluations of the FLEX program through E-GOALS, its online system for surveying program participants and collecting data about program performance. These evaluations assist ECA and its program grantees in meeting the requirements of the Government Performance Results Act (GPRA) of 1993. This Act requires Federal agencies to measure the results of their programs in meeting pre-determined performance goals and objectives.

All FLEX program participants will take three online surveys:

1. Standardized pre-program surveys, at the beginning of the program;

2. Standardized post-program surveys, at the end of the program and before their return home; and

3. Standardized follow-up surveys, approximately six months to a year after the conclusion of the program.

These surveys help ECA assess: Student satisfaction with the program; student attitudes and views; the extent of learning and skill development (including leadership); reliance on new learning and skills in their studies, at work, and in their communities; and their efforts to share new ideas, knowledge, and insights with citizens in their home countries.

Since organizations play a critical role in facilitating E-GOALS evaluations of FLEX participants, it is imperative that applicants include a plan to ensure that FLEX students complete the post-program surveys while they are still on program and prior to their departure from the United States; this includes monitoring the response rate through collection of a certificate issued by the system to each student upon completion of the survey. The grantee will be working directly with an E-GOALS evaluator in the Office of Policy and Evaluation. Please see specific responsibilities in the accompanying Project Objectives, Goals and Implementation (POGI) document.

IV.3e. Please take the following information into consideration when preparing your budget:

1V.3e.1. Applicants must submit a comprehensive budget for the entire program. Per capita costs are not to exceed $5,500 per participant. The budget must reflect costs for a minimum of 30 participants. Please indicate clearly the number of students funded. There must be a summary budget as well as breakdowns reflecting both administrative and program budgets. Applicants may provide separate sub-budgets for each program component, phase, location, or activity to provide clarification.

IV.3e.2. Allowable costs for the program and additional budget guidance are outlined in detail in the POGI document.

Please refer to the Solicitation Package for complete budget guidelines and formatting instructions.

IV.3f. Application deadline and methods of submission.

Application deadline date: December 4, 2006.

Reference number: ECA/PE/C/PY-07-06.

Methods of submission: applications may be submitted in one of two ways:

(1) In hard copy, via a nationally recognized overnight delivery service (i.e., DHL, Federal Express, UPS, Airborne Express, or U.S. Postal Express Overnight Mail, etc.), or

(2) Electronically through http://www.grants.gov. Along with the Project Title, all applicants must enter the above Reference Number in Box 11 on the SF-424 contained in the mandatory Proposal Submission Instructions (PSI) of the solicitation document.

IV.3f.1 Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight (8) copies of the application should be sent to: U.S. Department of State, SA-44, Bureau of Educational and Cultural Affairs, Ref.: ECA/PE/C/PY-07-06, Program Management, ECA/EX/PM, Room 534, 301 4th Street, SW., Washington, DC 20547.

Along with the Project Title, all applicants must enter the above Reference Number in Box 11 on the SF-424 contained in the mandatory Proposal Submission Instructions (PSI) of the solicitation document.

IV.3f.2. Submitting electronic applications. Applicants have the option of submitting proposals electronically through Grants.gov (http://www.grants.gov). Complete solicitation packages are available at Grants.gov in the “Find” portion of the system. Please follow the instructions available in the “Get Started” portion of the site (http://www.grants.gov/GetStarted).

Applicants have until midnight (12 a.m.) of the closing date to ensure that their entire application has been uploaded to the grants.gov site. Applications uploaded to the site after midnight of the application deadline date will be technically ineligible.

Applicants will receive a confirmation e-mail from grants.gov upon the successful submission of an application. ECA will not notify you upon receipt of electronic applications.

IV.3g. Intergovernmental Review of Applications Executive Order 12372 does not apply to this program.

V. Application Review Information

V.1. Review process: The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria: Technically eligible applications will be competitively reviewed according to the criteria stated below. These criteria are not rank ordered and all carry equal weight in the proposal evaluation:

1. Program Management and Planning: Your proposal narrative should exhibit originality, substance, and relevance to the Bureau's mission as well as to the goals of the FLEX program. The level of creativity, resources, and effectiveness will be primary factors for review. Proposals should demonstrate an understanding of Eurasian countries and of the needs of students from this region, as related to the program. Proposals should also indicate how students will be monitored, trained and prepared for their role as FLEX alumni. Reviewers will assess the degree in which proposals engage participants in community activities that involve skills development and leadership training. They will also assess proposed activities that foster tolerance and social justice. Proposals should indicate clearly the capacity and willingness to provide short-term programming for some students if this becomes necessary. A detailed agenda and work plan should adhere to the program overview and guidelines described in the solicitation package.

2. Ability to achieve program objectives: Objectives should be reasonable, feasible, and flexible. With respect to anticipated program outcomes, reviewers will assess the degree to which the proposed outcomes of the project are realistic and measurable. Strategies should creatively utilize and reinforce activities to ensure an efficient use of program resources.

3. Multiplier effect/impact: Proposed programs should strengthen long-term mutual understanding, including maximum sharing of information and establishment of long-term institutional and individual linkages. Reviewers will assess ways in which proposals include innovative ways to involve students in their U.S. communities and substantive plans to prepare them for their role as active, effective FLEX alumni.

4. Support of diversity: Proposals should demonstrate substantive support of the Bureau's policy on diversity. Achievable and relevant features should be cited in both program administration (selection of participants, host families, schools, program venue and program evaluation) and program content (orientations, program meetings, resource materials and follow-up activities).

5. Organization's record/institutional capacity: Proposed personnel and institutional resources should be adequate and appropriate to achieve the program or project's goals. In assessing institutional capacity, reviewers will assess the applicant and its partners to determine if they offer adequate resources, expertise, and experience to fulfill program objectives. Partner activities should be clearly defined. Proposals should demonstrate an institutional record of successful exchange programs, including responsible fiscal management and full compliance with all reporting and J-1 Visa requirements for past Bureau grants as determined by Bureau Grant Staff. The Bureau will consider the past performance of prior recipients and the demonstrated potential of new applicants.

6. Project monitoring and evaluation: Proposals should include a plan to monitor the activity's success, both as the activities unfold and at the end of the program. Reviewers will assess your plans to monitor student progress and program activities, particularly in regard to intended outcomes indicated in your proposal. Successful applicants will be expected to submit quarterly reports, which should be included as an inherent component of the work plan. Proposals should also specify ways in which students will be encouraged and monitored to ensure they complete the mandatory end-of-the-year surveys administered through the E-GOALS system.

7. Cost-effectiveness/cost sharing: Reviewers will analyze the budget for clarity and cost-effectiveness. They will also assess the rationale of the proposed budget and whether the allocation of funds is appropriate to complete tasks outlined in the project narrative. The overhead and administrative components of the proposal, including salaries and honoraria, should be kept as low as possible. All other items should be necessary and appropriate. Proposals should maximize cost-sharing through other private sector support as well as institutional direct funding contributions. Preference will be given to organizations whose proposals demonstrate a quality, cost-effective program.

VI. Award Administration Information

VI.1a. Award notice: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National policy requirements: Terms and Conditions for the Administration of ECA agreements include the following:

Office of Management and Budget Circular A-122, “Cost Principles for Nonprofit Organizations.”

Office of Management and Budget Circular, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants, http://exchanges.state.gov/education/grantsdiv/terms.htm#articleI.

VI.3. Reporting requirements: You must provide ECA with a hard copy original plus one copy of the following reports:

(1) A final program and financial report no more than 90 days after the expiration of the award;

(2) Quarterly program and financial reports which should include both quantitative and qualitative data you have available.

Grantees will be required to provide reports analyzing their evaluation findings to the Bureau in their regular program reports. (Please refer to IV. Application and submission instructions (IV.3.d.3) above for Program Monitoring and Evaluation information.

All data collected, including survey responses and contact information, must be maintained for a minimum of three years and provided to the Bureau upon request.

All reports must be sent to the ECA Grants Officer and ECA Program Officer listed in the final assistance award document.

VI.4. Program data requirements: Organizations awarded grants will be required to maintain specific data on program participants and activities in an electronically accessible database format that can be shared with the Bureaus required.

VII. Agency Contacts

For questions about this announcement, contact: Anna Mussman, Office of Citizen Exchanges, ECA/PE/C/PY, Room 568, U.S. Department of State, SA-44, 301 4th Street, SW., Washington, DC 20547. Telephone: (202) 203-7506, fax number: (202) 203-7529, Internet address: MussmanAP@state.gov. All correspondence with the Bureau concerning this RFGP should reference the above title and number ECA/PE/C/PY-07-06.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: September 13, 2006.
Dina Habib Powell,
Assistant Secretary for Educational and Cultural Affairs, Department of State.

[FR Doc. 06-7937 Filed 9-20-06; 8:45 am]

BILLING CODE 4710-05-P